GOVERNMENT ACCOUNTABILITY OFFICE

Medicaid and CHIP Payment and Access Commission Nominations

AGENCY: Government Accountability Office (GAO).

ACTION: Notice on letters of nomination.

SUMMARY: The Children's Health Insurance Program Reauthorization Act of 2009 (CHIPRA) established the Medicaid and CHIP Payment and Access Commission (MACPAC) to review Medicaid and CHIP access and payment policies and to advise Congress on issues affecting Medicaid and CHIP. CHIPRA gave the Comptroller General of the United States responsibility for appointing MACPAC's members. For appointments to MACPAC that will be effective January 1, 2016, I am announcing the following: Letters of nomination and resumes will be accepted through September 16, 2015 to ensure adequate opportunity for review and consideration of nominees prior to appointment of new members. Nominations should be sent to the email or mailing address listed below. Acknowledgement of submissions will be provided within a week of submission. Please contact Mary Giffin at (202) 512-3710 if you do not receive an acknowledgement.

ADDRESSES: Email: MACPACappointments@gao.gov.

Mail: U.S. GAO, Attn: MACPAC Appointments, 441 G Street NW., Washington, DC 20548.

FOR FURTHER INFORMATION CONTACT: GAO: Office of Public Affairs, (202) 512-4800.

Authority: Public Law 111-3, Section 506; 42 U.S.C. 1396.

Gene L. Dodaro,
Comptroller General of the United States.

[FR Doc. 2015-18888 Filed 7-31-15; 8:45 am]

BILLING CODE 1610-02-M